DEPARTMENT OF THE INTERIOR

National Park Service

[NPS-SER-EVER-14535; PX.P0078991D.00.1]

Draft Environmental Impact Statement for the Acquisition of Florida Power and Light Company Land in the East Everglades Expansion Area, Everglades National Park, Florida

AGENCY: National Park Service, Interior.

ACTION: Notice of availability.

SUMMARY: Pursuant to Section 102(2)(C) of the National Environmental Policy Act of 1969, 42 U.S.C. 4332(2)(C), the National Park Service (NPS) announces the availability of a Draft Environmental Impact Statement (Draft EIS) for the Acquisition of Florida Power and Light Company Land in the East Everglades Expansion Area, Everglades National Park, Florida.

DATES: The NPS will accept comments on the Draft EIS from the public for a period of 60 days following publication of the Environmental Protection Agency's Notice of Availability in the Federal Register. We will announce the dates, times, and location for a public meeting to solicit comments on the Draft EIS through the NPS Planning, Environment, and Public Comment (PEPC) Web site at http://parkplanning.nps.gov/EVER; the Web site of Everglades National Park at www.nps.gov/ever; and media outlets.

ADDRESSES: Electronic copies of the Draft EIS will be available online at http://parkplanning.nps.gov/EVER. A limited number of compact disks and printed copies will be also available at the Park headquarters, Everglades National Park, 40001 State Highway 9336, Homestead, Florida 33034-6733.

FOR FURTHER INFORMATION CONTACT: Brien Culhane, Everglades National Park, 40001 State Road 9336, Homestead, FL 33034-6733 or by telephone at (305) 242-7717.

SUPPLEMENTARY INFORMATION: The Draft EIS addresses options for NPS acquisition of existing Florida Power and Light (FPL) land located within the park, or sufficient interest in the property, to facilitate hydrologic and ecologic restoration of the park and Everglades ecosystem. This action is needed to support the mission of NPS and the park, because the East Everglades Expansion Area (EEEA), which includes the existing FPL parcel, has been identified as vital to long-term protection of the park for ecosystem restoration purposes. Also, the acquisition of the existing FPL parcel is needed to support the goals of restoring the Northeast Shark River Slough and to fulfill the purposes of the Comprehensive Everglades Restoration Plan. Public Law (Pub. L.) 101-229 (December 13, 1989), articulates that the Everglades is both nationally and internationally significant and sets forth specific goals and objectives for acquisition of properties in this area. Acquisition of land within the EEEA through an exchange of lands with FPL is also authorized by Public Law 111-11 (March 30, 2009).

The Draft EIS describes five alternatives for acquiring land owned by FPL in the EEEA within the boundaries of the park, or sufficient interest in this property, as well as the affected environment and the environmental consequences of implementing these alternatives. The Draft EIS addresses both the potential impacts from the acquisition of FPL land in the park, as well as the indirect impacts that could result from the subsequent construction and operation of transmission lines that could be built by FPL either inside or outside the park as a result of the land acquisition alternative selected. The alternatives are described in detail in Chapter 2 of the Draft EIS, and Chapter 4 details the key impacts of implementing the alternatives.

The following describes each of the alternatives included in the Draft EIS:

Alternative 1a—The NPS would not take action to acquire FPL property within the park. There would be no change in the status of FPL lands in the park. The impact analysis for this alternative assumes that FPL would not construct transmission lines on its existing land in the park or in any area outside the park. This alternative represents the environmental baseline. It assumes that the NPS would not be able to flow water on this property to achieve its long-term restoration objectives because it would not have acquired the right or interest to do so.

Alternative 1b—The NPS would not take action to acquire FPL property within the park, the same as alternative 1a, but the impact analysis for this alternative assumes that FPL would construct transmission lines on its existing land in the park. Although it represents the same management decision as alternative 1a, the impact analysis for this alternative addresses the impacts of transmission line construction on the FPL property. Similar to alternative 1a, it also assumes that the NPS would not be able to flow water on this property to achieve its long-term restoration objectives.

Alternative 2—The NPS would acquire the FPL corridor by purchase or through the exercise of eminent domain authority by the United States. This alternative would result in an increase of 320 acres of NPS-owned land within the authorized boundary of the park and would allow for flowage of water on this property. The transmission line construction scenario associated with the analysis of the impacts of alternative 2 assumes that FPL would likely acquire a replacement corridor east of the existing park boundary to meet its transmission needs and the lines would be built outside the park.

Alternative 3—The NPS would acquire fee title to the FPL corridor through a fee-for-fee exchange for park property, as authorized by the exchange legislation (Pub. L. 111-11). NPS land conveyed to FPL would consist of 260 acres along 6.5 miles of the eastern boundary of the EEEA, and the boundary of the park would be adjusted upon completion of the exchange to remove the lands conveyed to FPL from the park. The NPS would also convey a 90-foot-wide perpetual nonnative vegetation management easement to FPL adjacent to the entire length of the exchange corridor. The fee-for-fee land exchange would be subject to terms and conditions that are to be agreed upon between the NPS and FPL and incorporated into a binding exchange agreement. FPL would be required to allow the United States the perpetual right, power and privilege to flood and submerge the property consistent with hydrologic restoration requirements. The transmission line construction scenario associated with the analysis of the impacts of this alternative assumes that FPL would build the transmission lines in the exchange corridor in accordance with the terms and conditions established in the fee for fee exchange agreement.

Alternative 4—The NPS would acquire fee title to the FPL corridor through an exchange for an easement on NPS property. This is essentially the same as alternative 3, except that NPS would grant an easement (not fee title) to FPL on 260 acres of park land along 6.5 miles of the eastern boundary of the EEEA for potential construction of transmission lines, in accordance with the terms and conditions developed for this “easement for fee” exchange. The NPS would retain ownership of the corridor, but would no longer have the unencumbered use of the exchange corridor. The NPS would also convey a 90-foot-wide perpetual nonnative vegetation management easement to FPL adjacent to the entire length of the exchange corridor. The easement for fee land exchange would also be subject to terms and conditions that are to be agreed upon between the NPS and FPL and incorporated into a binding exchange agreement. Similar to alternative 3, the FPL easement area would be subject to a perpetual flowage easement. The transmission line construction scenario associated with the analysis of the impacts of this alternative assumes that FPL would build the transmission lines in the exchange corridor in accordance with the terms and conditions established in the easement for fee exchange agreement.

Alternative 5—The NPS would acquire a perpetual flowage easement on FPL's property within the EEEA through purchase, condemnation, or donation by FPL. FPL would retain ownership of its corridor in the park during the term of the easement and could seek to site transmission lines there. The flowage allowed under this easement would allow sufficient water flow over this area to support ecosystem restoration projects. There would be no change to the authorized boundary of the park, although the NPS would retain the current goal of acquiring this property over the long term. The construction scenario associated with the analysis of the impacts of this alternative would be the same as the one for alternative 1b (FPL construction of transmission lines on its existing land in the park), except that NPS would acquire a long-term, perpetual flowage easement.

If you wish to comment on the Draft EIS, you may submit your comments by any one of several methods. We encourage you to comment via the internet on the PEPC Web site at http://parkplanning.nps.gov/EVER. An electronic public comment form is provided on this Web site. You may also comment via mail to: Everglades National Park FPL Project Planning Team, National Park Service, M. Elmer (DSC-P), P.O. Box 25287, Denver, CO 80225-0287; or by hand delivery to Park headquarters, at 40001 State Road 9336, Homestead, FL 33034-6733.

Before including your address, phone number, email address, or other personal identifying information in your comment, please be aware your entire comment—including your personal identifying information—may be made publicly available at any time. While you can ask us in your comment to withhold your personal identifying information from public review, we cannot guarantee that we will be able to do so.

The responsible official for this Draft EIS is the Regional Director, NPS Southeast Region, 100 Alabama Street SW., 1924 Building, Atlanta, Georgia 30303.

Dated: January 8, 2014.
Stan Austin,
Regional Director, Southeast Region.

[FR Doc. 2014-00634 Filed 1-14-14; 8:45 am]

BILLING CODE 4310-JD-P